DEPARTMENT OF HEALTH AND HUMAN SERVICES

National Institutes of Health

National Institute of Environmental Health Sciences; Amended Notice of Meeting

Notice is hereby given of a change in the meeting of the National Institute of Environmental Health Sciences Special Emphasis Panel, October 10, 2013, 12:30 p.m. to October 10, 2013, 5:00 p.m., NIEHS/National Institutes of Health, Keystone Building, 530 Davis Drive, Research Triangle Park, NC 27709 which was published in the Federal Register on September 16, 2013, 78 FR 56902.

This meeting, originally scheduled for October 10, 2013, will be held on November 14, 2013 from 1 p.m. to 4 p.m. The meeting is closed to the public.

Dated: October 22, 2013.
Carolyn Baum,
Program Analyst, Office of Federal Advisory Committee Policy.

[FR Doc. 2013-25465 Filed 10-28-13; 8:45 am]

BILLING CODE 4140-01-P